COMMODITY FUTURES TRADING COMMISSION

Agency Information Collection Activities: Notice of Intent To Extend Collection 3038-0086: Swap Data Repositories; Registration and Regulatory Requirements

AGENCY: Commodity Futures Trading Commission.

ACTION: Notice.

SUMMARY: The Commodity Futures Trading Commission (“Commission” or “CFTC”) is announcing an opportunity for public comment on the proposed renewal of a collection of certain information by the agency. Under the Paperwork Reduction Act (“PRA”), Federal agencies are required to publish notice in the Federal Register concerning each proposed collection of information, including each proposed extension of an existing collection of information, and to allow 60 days for public comment. This notice solicits comments on requirements relating to Swap Data Repositories (“SDRs”), including initial registration as an SDR, maintaining registration as an SDR, swap data reporting, and swap data recordkeeping.

DATES: Comments must be submitted on or before December 3, 2024.

ADDRESSES: You may submit comments, identified by “Renewal of Collection Pertaining to Swap Data Repositories; Registration and Reporting Requirements” by any of the following methods:

• The CFTC website, at https://comments.cftc.gov/. Follow the instructions for submitting comments through the website.

• Mail: Christopher Kirkpatrick, Secretary of the Commission, Commodity Futures Trading Commission, Three Lafayette Centre, 1155 21st Street NW, Washington, DC 20581.

• Delivery/Courier: Same as Mail above.

Please submit your comments using only one method and identify that it is for the extension/renewal of Collection Number 3038-0086.

FOR FURTHER INFORMATION CONTACT: Jason H. Smith, Assistant Chief Counsel, Division of Market Oversight Commodity Futures Trading Commission, (202) 329-3794; email: jsmith@cftc.gov, and refer to OMB Control No. 3038-0086.

SUPPLEMENTARY INFORMATION: Under the PRA, 44 U.S.C. 3501 et seq., Federal agencies must obtain approval from the Office of Management and Budget (OMB) for each collection of information they conduct or sponsor. “Collection of Information” is defined in 44 U.S.C. 3502(3) and 5 CFR 1320.3 and includes agency requests or requirements that members of the public submit reports, keep records, or provide information to a third party. Section 3506(c)(2)(A) of the PRA, 44 U.S.C. 3506(c)(2)(A), requires Federal agencies to provide a 60-day notice in the Federal Register concerning each proposed collection of information, including each proposed extension of an existing collection of information, before submitting the collection to OMB for approval. To comply with this requirement, the CFTC is publishing notice of the proposed collection of information listed below. An agency may not conduct or sponsor, and a person is not required to respond to, a collection of information unless it displays a currently valid OMB control number.

Title: Swap Data Repositories; Registration and Regulatory Requirements (OMB Control No. 3038-0086). This is a request for extension of a currently approved information collection.

Abstract: Section 728 of the Dodd-Frank Wall Street Reform and Consumer Protection Act, Public Law 111-203, 124 Stat. 1376 (2010), specifically requires the CFTC to establish certain standards for the governance, registration, and statutory duties applicable to SDRs. The CFTC established these standards in part 49 of the CFTC's regulations.

With respect to the collection of information, the CFTC invites comments on:

• Whether the proposed collection of information is necessary for the proper performance of the functions of the Commission, including whether the information will have a practical use;

• The accuracy of the Commission's estimate of the burden of the proposed collection of information, including the validity of the methodology and assumptions used;

• Ways to enhance the quality, usefulness, and clarity of the information to be collected; and

• Ways to minimize the burden of collection of information on those who are to respond, including through the use of appropriate automated electronic, mechanical, or other technological collection techniques or other forms of information technology; e.g., permitting electronic submission of responses.

All comments must be submitted in English, or if not, accompanied by an English translation. Comments will be posted as received to https://www.cftc.gov. You should submit only information that you wish to make available publicly. If you wish the Commission to consider information that you believe is exempt from disclosure under the Freedom of Information Act, a petition for confidential treatment of the exempt information may be submitted according to the procedures established in § 145.9 of the Commission's regulations.¹

¹ 17 CFR 145.9.

The Commission reserves the right, but shall have no obligation, to review, pre-screen, filter, redact, refuse or remove any or all of your submission from https://www.cftc.gov that it may deem to be inappropriate for publication, such as obscene language. All submissions that have been redacted or removed that contain comments on the merits of the ICR will be retained in the public comment file and will be considered as required under the Administrative Procedure Act and other applicable laws, and may be accessible under the Freedom of Information Act.

Burden Statement: The Commission is revising its estimate of the burden for this collection for Swap Data Repositories (SDRs). The respondent burden for this collection is estimated to be as follows:

Estimated Number of Respondents: 4.

Estimated Average Burden Hours per Respondent: 19,679.5.

Estimated Total Annual Burden Hours: 78,718.

Frequency of Collection: Annual and occasional.

There are no start-up costs associated with this collection and an average of $2 million in ongoing operating costs per respondent.

(Authority: 44 U.S.C. 3501 et seq.)

Dated: September 30, 2024.
Robert Sidman,
Deputy Secretary of the Commission.

[FR Doc. 2024-22910 Filed 10-3-24; 8:45 am]

BILLING CODE 6351-01-P